DEPARTMENT OF COMMERCE

[I.D. 110503F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Scale and Catch Weighing Requirements.

Form Number(s): None.

OMB Approval Number: 0648-0330.

Type of Request: Regular submission.

Burden Hours: 8,058.

Number of Respondents: 39.

Average Hours Per Response: 45 minutes for a record of daily scale test; 45 minutes per day for printing a record of the weight of each delivery; 20-190 hours for documents for requesting a scale type evaluation; 6 minutes for an inspection request for at-sea scales; 6 minutes for an at-sea scale approval report/sticker; 6 minutes for a request to inspect scales on behalf of NOAA; 2 hours for a request for an observer station inspection; 5 minutes for an inspection request by an inshore processor; 40 hours for a catch monitoring and control plan; 8 hours for an addendum to a catch monitoring and control plan; and 5 minutes for a notification of an observer of the offloading schedule to delivery.

Needs and Uses: The procedures in question are designed for Western Alaska Community Development Quota (CDQ) catcher/processors, American Fisheries Act (AFA) catcher/processors, and AFA motherships. This existing information collection would be revised to incorporate catch-weighing requirements for AFA inshore processors (shoreside processors and stationary floating processors).

The National Marine Fisheries Service (NMFS) must be able to ensure that the total weight, species composition, and catch location for each delivery are reported accurately. This is accomplished through a catch-monitoring system that: allows for independent verification of catch weight, species composition and haul location data; ensures that all catch is weighed accurately; and provides a record of the weight of each delivery that may be audited by NMFS. Requirements include approval of scale types for use, inspection requests, scale tests, an inshore processor catch monitoring and control plan, and printed output from scales.

Affected Public: Business and other for-profit organizations, individuals or households.

Frequency: On occasion, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number 202-395-7285, or David_Rostker@omb.eop.gov.

Dated: November 4, 2003.
Gwellnar Banks,
Management Analyst, Office of the Chief Information Officer.

[FR Doc. 03-28383 Filed 11-12-03; 8:45 am]

BILLING CODE 3510-22-S